DEPARTMENT OF HEALTH AND HUMAN SERVICES

Centers for Disease Control and Prevention

Ethics Subcommittee, Advisory Committee to the Director (ACD), Centers for Disease Control and Prevention (CDC)

In accordance with section 10(a)(2) of the Federal Advisory Committee Act (Pub. L. 92-463), CDC announces the following meeting for the aforementioned subcommittee.

Time and Date: 1 p.m.-2:30 p.m., April 7, 2009.

Place: This meeting will be held by conference call. The call in number is (866) 919-3560 and enter passcode: 4168828.

Status: Open to the public. The public is welcome to participate during the public comment period which is tentatively scheduled from 2 p.m.-2:15 p.m.

Purpose: The Ethics Subcommittee will provide counsel to the ACD, CDC, regarding a broad range of public health ethics questions and issues arising from programs, scientists and practitioners.

Matters To Be Discussed: The agenda items will include discussion of ethical considerations relating to the use of travel restrictions for the control of communicable diseases, ethics guidance for public health emergency preparedness and response.

This notice is published less than 15 days before the meeting due to administrative delays.

Contact Person for More Information: Drue Barrett, PhD, Designated Federal Officer, Ethics Subcommittee, CDC, 1600 Clifton Road, NE., M/S D-50, Atlanta, Georgia 30333. Telephone 404-639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: March 19, 2009.
Andre Tyler,
Acting Director, Management Analysis and Services Office, Centers for Disease Control and Prevention.

[FR Doc. E9-6566 Filed 3-24-09; 8:45 am]

BILLING CODE 4163-18-P